DEPARTMENT OF JUSTICE

Drug Enforcement Administration

[Docket No. DEA-864]

Importer of Controlled Substances Application: Cedarburg Pharmaceuticals

AGENCY: Drug Enforcement Administration, Justice.

ACTION: Notice of application.

SUMMARY: Cedarburg Pharmaceuticals has applied to be registered as an importer of basic class(es) of controlled substance(s). Refer to SUPPLEMENTARY INFORMATION listed below for further drug information.

DATES: Registered bulk manufacturers of the affected basic class(es), and applicants therefore, may file written comments on or objections to the issuance of the proposed registration on or before September 24, 2021. Such persons may also file a written request for a hearing on the application on or before September 24, 2021.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on January 20, 2021, Cedarburg Pharmaceuticals, 870 Badger Circle Drive, Grafton, Wisconsin 53024-9436, applied to be registered as an importer of the following basic class(es) of controlled substance(s):

Controlled substance | Drug code | Schedule
Gamma Hydroxybutyric Acid | 2010 | I
Marihuana Extract | 7350 | I
Marihuana | 7360 | I

The company plans to import Sodium Oxybate (derivative of Gamma-Hydroxybutyric Acid) to support Euticals Inc. post procurement quota grand. The cannabidiol from Marihuana and Marihuana Extracts is intended for analytical purposes with tetramethylpyrazine. No other activity for this drug code is authorized for this registration.

Approval of permit applications will occur only when the registrant's business activity is consistent with what is authorized under 21 U.S.C. 952(a)(2). Authorization will not extend to the import of Food and Drug Administration-approved or non-approved finished dosage forms for commercial sale.

Brian S. Besser,
Acting Assistant Administrator.

[FR Doc. 2021-18233 Filed 8-24-21; 8:45 am]

BILLING CODE P